DEPARTMENT OF THE INTERIOR

Bureau of Land Management

[LLOR930000.L11100000.DF0000.13XL1109AF.LXSISGST0000-HAG13-0282]

Notice of Availability of the Oregon Greater Sage-Grouse Draft Land Use Plan Amendments and Draft Environmental Impact Statement

AGENCY: Bureau of Land Management, Interior.

ACTION: Notice of availability.

SUMMARY: In accordance with the National Environmental Policy Act of 1969, as amended, and the Federal Land Policy and Management Act of 1976, as amended, the Bureau of Land Management (BLM) has prepared Oregon Greater Sage-Grouse Draft Land Use Plan (LUP) Amendments and a Draft Environmental Impact Statement (EIS) for the Oregon Sub-Region and, by this notice, is announcing the opening of the comment period.

DATES: To ensure that comments will be considered, the BLM must receive written comments on the Draft LUP Amendments/Draft EIS within 90 days following the date that the Environmental Protection Agency publishes notice of the Draft LUP Amendments/Draft EIS in the Federal Register. The BLM will announce future meetings or hearings and any other public participation activities at least 15 days in advance through public notices, media releases, and/or mailings.

ADDRESSES: You may submit comments related to the Oregon Greater Sage-Grouse Draft LUP Amendments/Draft EIS by any of the following methods:

• Web site: http://on.doi.gov/1ewEQRc.

• Email: blm_or_so_gsg_planning_comments@blm.gov.

• Fax: 503-808-6021.

• Mail: BLM—Greater Sage-Grouse EIS, 1220 SW 3rd Avenue, Portland, OR 97204.

Copies of the Oregon Greater Sage-Grouse Draft LUP Amendments/Draft EIS are available at the Oregon State Office at the above address or on the Web site at: http://www.blm.gov/or/energy/opportunity/sagebrush.php.

FOR FURTHER INFORMATION CONTACT: Joan Suther, Oregon Sub-Regional Greater Sage-Grouse Project Manager, telephone 541-573-4445; see address above; email jsuther@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM prepared the Oregon Greater Sage-Grouse Draft LUP Amendments and Draft EIS to address a range of alternatives focused on specific conservation measures across the Oregon range of the Greater Sage-Grouse (GRSG). The Draft LUP Amendments/Draft EIS is one of 15 separate planning efforts that are being undertaken as part of the BLM's and the U.S. Forest Service's National Greater Sage-Grouse Planning Strategy. The Draft LUP Amendments/Draft EIS propose to amend the LUPs for the Vale, Burns, Prineville, and Lakeview District Offices. The current management decisions for resources are described in the following LUPs:

• Andrews 2005

• Baker 1989

• Brothers LaPine (east) 1989

• Lakeview 2003

• Southeastern Oregon 2002

• Steens Mountain Cooperative Management and Protection Area 2005

• Three Rivers 1992

• Upper Deschutes 2005

Within the decision area, the BLM administers approximately 10 million acres of sage-grouse habitat. Surface management decisions made as a result of the Draft LUP Amendments/Draft EIS will apply only to the BLM-administered lands in the decision area. The decision area is defined as those BLM-administered lands within two categories of habitat identified by the BLM in coordination with the Oregon Department of Fish and Wildlife:

• Preliminary Priority Habitat (PPH)—Areas identified as having the highest conservation value for maintaining sustainable GRSG populations; include breeding, late brood-rearing, and winter concentration areas.

• Preliminary General Habitat (PGH)—Areas of seasonal or year-round habitat outside of priority habitat.

The formal public scoping process for the LUP Amendments/EIS began on December 9, 2011, with the publication of a Notice of Intent in the Federal Register (76 FR 77008) and ended on March 23, 2012. The BLM held scoping open houses in January and February 2012. The BLM used public scoping comments to help identify planning issues that directed the formulation of alternatives and framed the scope of analysis in the Draft LUP Amendments/Draft EIS. The scoping process was also used to introduce the public to preliminary planning criteria, which set limits on the scope of the Draft LUP Amendments/Draft EIS.

Major issues considered in the Draft LUP Amendments/Draft EIS include special status species management (GRSG specifically), energy and mineral development, lands and realty (including transmission), vegetation management, and livestock grazing. The Draft LUP Amendments/Draft EIS evaluate six alternatives in detail, including the No Action Alternative (Alternative A) and five action alternatives (Alternatives B, C, D, E, and F). The BLM identified Alternative D as the preferred alternative. Identification of this alternative, however, does not represent final agency direction, and the proposed LUP amendments/Final EIS may reflect changes or adjustments based on information received during public comment, on other new information, or onchanges in BLM policies or priorities. The proposed LUP amendments/Final EIS may include objectives and actions described in the other analyzed alternatives or that are otherwise within the spectrum of alternatives analyzed. Alternative A would retain the current management goals, objectives, and direction specified in the current LUPs for each field office. Alternative B includes conservation measures from the Greater Sage-Grouse National Technical Team Report. Alternative C includes conservation measures that various conservation groups submitted to the BLM and includes the removal of grazing in currently occupied habitat. Alternative C also includes proposed designation of an Area of Critical Environmental Concern (ACEC). Alternative D includes conservation measures the BLM developed with the cooperating agencies. Alternative E is based on recommendations included in the Oregon Department of Fish & Wildlife Sage-Grouse Conservation and Assessment Strategy (2011), which includes an emphasis on protecting Core Areas with no development permissible in Greater Sage-Grouse habitat with evidence of Greater Sage-Grouse presence for major surface disturbing activities.

Alternative F analyzes other management recommendations submitted by conservation groups and includes reduced grazing in currently occupied habitat. Alternative F also includes proposed designation of an ACEC. Pursuant to 43 CFR 1610.7-2(b), this notice announces a concurrent public comment period on proposed ACECs. One ACEC is proposed in Alternative C. The Sage-Grouse Habitat ACEC would cover approximately 4,547,043 acres of Greater Sage-Grouse habitat. Another ACEC proposal is found in Alternative F. This Sage-Grouse Habitat ACEC proposal would include 17 ACECs covering approximately 4,040,202 acres of Greater Sage-Grouse habitat. The proposed ACECs within Alternative C would include the following resource use limitations if they were formally designated: Closed to fluid mineral leasing; designated as a right-of-way exclusion area; closed to livestock grazing; allowance of vegetation treatments only for the benefit of GRSG; and recommended for withdrawal from mineral entry. The proposed ACECs within Alternative F would include similar resource use limitations as presented in Alternative C, except that these proposed ACECs would have reduced livestock grazing levels and not be fully closed. Also, under Alternative F, ACEC resource use limitations would only apply to areas that are proposed to be managed for priority Greater Sage-Grouse habitat. In addition, Alternative D proposes sage-grouse conservation measures on a subset of existing ACECs containing more than 20 percent or 50 percent preliminary general management area sage-grouse habitat.

Please note that public comments and information submitted—including names, street addresses and email addresses of persons who submit comments—will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2

Jerome E. Perez,
State Director, Oregon/Washington.

[FR Doc. 2013-28295 Filed 11-25-13; 8:45 am]

BILLING CODE 4310-33-P